DEPARTMENT OF JUSTICE

Antitrust Division

Notice Pursuant to the National Cooperative Research and Production Act of 1993—The Open Group, L.L.C.

Notice is hereby given that, on May 23, 2022, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, ADAGA Solutions, Ltd, Calgary, CANADA; Alfahive, Inc., Mississauga, CANADA; Analog Devices, Inc., Chelmsford, MA; Avancier Limited, New Malden, UNITED KINGDOM; BusCorp Inc., Calgary, CANADA; C-Risk, Paris La Defense Cedex, FRANCE; Crystal Group, Hiawatha, IA; DUG Technology (Australia) Pty Ltd, Perth, AUSTRALIA; ETNIC—Fédération Wallonie-Bruxelles, Bruxelles, BELGIUM; Expeditionary Engineering, Inc, San Diego, CA; Geologix Limited, Norwich, UNITED KINGDOM; GeoSoftware C.V., The Hague, THE NETHERLANDS; Glex AS, Bergen, NORWAY; II-VI Aerospace & Defense, Inc., Murrieta, CA; ITT Cannon LLC, Irvine, CA; Kyndryl, New York, NY; Leonardo DRS, Arlington, VA; Lloyd's Register Digital Products Limited, Aberdeen, UNITED KINGDOM; Makel Engineering, Inc., Chico, CA; Nasuni Corporation, Boston, MA; Octo Security PTE LTD, Dubai, UNITED ARAB EMIRATES; Petroware AS, Stavanger, NORWAY; PIARA Inc., Pittsburgh, PA; Prores AS, Trondheim,NORWAY; Quantic Electronics, LLC, East Providence, RI; SARL SMARTEST, Ouled Fayet, ALGIERS; SI12 Technologies, Billerica, MA; The EOSYS Group, Inc., Smyrna, TN; Tracy A Barkhimer Acquisition Strategies & Consulting, LLC, White Salmon, WA; U.S. Army Project Manager, Positioning, Navigation and Timing (PM PNT), Aberdeen Proving Ground, MD; Variable Software, Inc., Denver, CO; VMWare Inc., Palo Alto, CA; Web Age Solutions Inc., Toronto, CANADA; and Wellsite Software LLC, Houston, TX, have been added as parties to this venture.

Also, Ascendant Engineering Solutions, Austin, TX; Beyond Limits, Inc., Glendale, CA; Buurst, Inc., Houston, TX; CCTI SAS Consultoria en Technologia, Bogota, COLOMBIA; D2IQ, Inc., San Francisco, CA; Data Gumbo Corporation, Houston, TX; Dawan, Nantes, FRANCE; Devoteam Consulting A/S, Copenhagen, DENMARK; Digital Business Consulting LLC; McKinney, TX; DRS Training & Control Systems, LLC, Fort Walton Beach, FL; DT360, Inc., Natick, MA; Dux Diligens S.A. de C.V., Mexico City, MEXICO; Energy Systems Catapult Limited, Birmingham, UNITED KINGDOM; HIMA Paul Hildebrandt GmbH, Houston, TX; IBISKA Telecom, Inc., Ottawa, CANADA; Infinite Dimensions Integration, Inc., West Plains, MO; Merck KGaA, Molsheim, FRANCE; Netmind SL, Barcelona, SPAIN; Perspecta Labs, Inc., Red Bank, NJ; Rapid Imaging Software, Inc., Albuquerque, NM; Real Time Automation Inc., Pewaukee, WI; Samson Aktieneegesellschaft, Frankfurt, GERMANY; SYSGO AG, Klein-Winternheim, GERMANY; University of Denver, Alexandria, VA; and Wavekoda, The Hague, THE NETHERLANDS, have withdrawn as parties to this venture.

Additionally, ABB Automation has changed its name to ABB AG, Minden, GERMANY; Cegal AS to CegalSYSCO AS, Stavanger, NORWAY; Spirit Energy Norway to Sval Energi AS, Stavanger, NORWAY and Perecon AS to Resbridge AS, Bergen, NORWAY.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on March 2, 2022. A notice was published in the Federal Register pursuant to Section 6(b) of the Act on March 15, 2022 (87 FR 14574).

Suzanne Morris,
Chief, Premerger and Division Statistics, Antitrust Division.

[FR Doc. 2022-12606 Filed 6-10-22; 8:45 am]

BILLING CODE P